DEPARTMENT OF ENERGY

Federal Energy Regulatory Commission

[Project No. 13728-002]

Goodwin Power, LLC; Notice of Preliminary Permit Application Accepted for Filing and Soliciting Comments, Motions To Intervene, and Competing Applications

On November 8, 2013, Goodwin Power, LLC filed an application for a successive preliminary permit, pursuant to section 4(f) of the Federal Power Act (FPA), proposing to study the feasibility proposing to study the feasibility of the Goodwin Dam Project, located on the Stanislaus River in Tuolumne and Calaveras counties, California. The sole purpose of a preliminary permit, if issued, is to grant the permit holder priority to file a license application during the permit term. A preliminary permit does not authorize the permit holder to perform any land-disturbing activities or otherwise enter upon lands or waters owned by others without the owners' express permission.

The proposed project would be located at the existing Goodwin Dam ¹ and would harness water that currently flows over the spillway of the Goodwin Dam. The proposed project would consist of: (1) A 15-foot-wide by 7-foot-high siphon intake and guard; (2) four 150-foot-long, 48 inch diameter penstocks; (3) four inline turbines and associated generators, each having an installed capacity of 1.24 megawatts; (4) four 48-inch-wide draft tube tunnels; (5) a 33-foot-long by 25-foot-wide concrete foundation; (6) a 50-foot-long by 20-foot-wide tailrace canal extending from the powerhouse to the river bed; (7) a new switchyard and 400-foot-long, 17 kV transmission overhead line or a buried cable connecting to PG&E´s transmission lines at Goodwin Dam; and (8) appurtenant facilities.

¹ The existing Goodwin Dam is owned by the Oakdale Irrigation District and San Joaquin Irrigation District.

Applicant Contact: Magnús Jóhannesson, America Renewables, LLC; 46-E Peninsula Center, Palos Verdes Estates, CA 90274; mj@americarenewables.com.

FERC Contact: Jennifer Adams, (202) 502-8087; jennifer.adams@ferc.gov.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and five copies to: Kimberly D. Bose, Secretary, Federal Energy Regulatory Commission, 888 First Street NE., Washington, DC 20426.

More information about this project, including a copy of the application, can be viewed or printed on the “eLibrary” link of the Commission's Web site at http://www.ferc.gov/docs-filing/elibrary.asp. Enter the docket number (P-13728) in the docket number field to access the document. For assistance, contact FERC Online Support.

Dated: November 26, 2013.
Kimberly D. Bose,
Secretary.

[FR Doc. 2013-28899 Filed 12-2-13; 8:45 am]

BILLING CODE 6717-01-P